DEPARTMENT OF VETERANS AFFAIRS

Advisory Committee on Prosthetics and Special Disabilities Programs Notice of Meeting

The Department of Veterans Affairs (VA) gives notice under Public Law 92-463 (Federal Advisory Committee Act) that a meeting of the Advisory Committee on Prosthetics and Special Disabilities Programs will be held March 10-11, 2009, at VA Central Office, 810 Vermont Avenue, NW., Washington, DC. On March 10, the session will be held in Room 630 from 8:30 a.m. to 4:30 p.m. and on March 11, the session will be held in Room 230 from 8:30 a.m. to noon. The meeting is open to the public.

The purpose of the Committee is to advise the Secretary of Veterans Affairs on VA's prosthetic programs designed to provide state-of-the-art prosthetics and the associated rehabilitation research, development, and evaluation of such technology. The Committee also provides advice to the Secretary on special disability programs which are defined as any program administered by the Secretary to serve veterans with spinal cord injury, blindness or visual impairment, loss of extremities or loss of function, deafness or hearing impairment, and other serious incapacities in terms of daily life functions.

On the morning of March 10, the Committee will be briefed by a representative from the Commission on Accreditation of Rehabilitation Facilities and the Chief Consultant for Rehabilitation Services on Audiology and Speech Pathology Programs. In the afternoon, the Committee will receive briefings from the Chief Consultant for Spinal Cord Injury and Disorders, the Chief of Prosthetics and Clinical Logistics Officer, and the Director of Blind Rehabilitation Service. On the morning of March 11, an update will be provided by the Chief of Ophthalmology Services.

No time will be allocated for receiving oral presentations from the public. However, members of the public may direct questions or submit written statements for review by the Committee in advance of the meeting to Mr. Larry N. Long, Designated Federal Officer, Veterans Health Administration, Patient Care Services, Rehabilitation Services (117D), Department of Veterans Affairs, 810 Vermont Avenue, NW., Washington, DC 20420. Any member of the public wishing to attend the meeting should contact Mr. Long at (202) 461-7354.

Dated: February 5, 2009.
By direction of the Secretary.
E. Philip Riggin,
Committee Management Officer.

[FR Doc. E9-2709 Filed 2-9-09; 8:45 am]

BILLING CODE 8320-01-P